DEPARTMENT OF HOMELAND SECURITY

Federal Emergency Management Agency

[Docket ID FEMA-2009-0001]

Agency Information Collection Activities: Proposed Collection; Comment Request, 1660-NEW; FEMA Preparedness Grants: Homeland Security Grant Program (HSGP)

AGENCY: Federal Emergency Management Agency, DHS.

ACTION: Notice; 60-day notice and request for comments; new information collection; OMB No. 1660-NEW; FEMA Form 089-1, HSGP Investment Justification.

SUMMARY: The Federal Emergency Management Agency, as part of its continuing effort to reduce paperwork and respondent burden, invites the general public and other Federal agencies to take this opportunity to comment on a proposed new information collection. In accordance with the Paperwork Reduction Act of 1995, this Notice seeks comments concerning the collection of information to administer the Homeland Security Grant Program (HSGP).

DATES: Comments must be submitted on or before January 19, 2010.

ADDRESSES: To avoid duplicate submissions to the docket, please use only one of the following means to submit comments:

(1) Online. Submit comments at www.regulations.gov under docket ID FEMA-2009-0001. Follow the instructions for submitting comments.

(2) Mail. Submit written comments to Office of Chief Counsel, Regulation and Policy Team, DHS/FEMA, 500 C Street, SW., Room 835, Wash, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Stacey Street, Program Analyst, Grant Programs Directorate, 202-786-9728 for additional information. You may contact the Records Management Branch for copies of the proposed collection of information at facsimile number (202) 646-3347 or e-mail address: FEMA-Information-Collections@dhs.gov.

SUPPLEMENTARY INFORMATION: FEMA's Homeland Security Grant Program (HSGP) is an important part of the Administration's larger, coordinated effort—known as the Federal Investment Strategy—to strengthen homeland security preparedness. The HSGP implements objectives addressed in a series of post-9/11 laws, strategy documents, plans, and Homeland Security Presidential Directives. FEMA management requirements are incorporated into the Homeland Security Grant Program and reflect changes mandated in the Homeland Security Act of 2002 (6 U.S.C. 101 et seq.), as amended by the Implementing Recommendations of the 9/11 Commission Act of 2007 (Pub. L. 110-053). Additional statutory requirements are outlined in the `Consolidated Security, Disaster Assistance, and Continuing Appropriations Act, 2009' (Pub. L. 110-329).

Collection of Information

Title: FEMA Preparedness Grants: Homeland Security Grant Program (HSGP).

Type of Information Collection: New information collection.

OMB Number: 1660-NEW.

Form Titles and Numbers: FEMA Form 089-1, HSGP Investment Justification.

Abstract: The HSGP is an important tool among a comprehensive set of measures to help strengthen the Nation against risks associated with potential terrorist attacks. DHS/FEMA uses the information to evaluate applicants' familiarity with the national preparedness architecture and identify how elements of this architecture have been incorporated into regional/state/local planning, operations, and investments. The Homeland Security Grant Program (HSGP) is a primary funding mechanism for building and sustaining national preparedness capabilities. HSGP is comprised of four separate grant programs: the State Homeland Security Program (SHSP), the Urban Areas Security Initiative (UASI), the Metropolitan Medical Response Systems (MMRS), and the Citizen Corps Program (CCP). Together, these grants fund a range of preparedness activities, including planning, organization, equipment purchase, training, exercises, and management and administration costs.

Affected Public: State, Local or Tribal Government.

Estimated Total Annual Burden Hours: 308,136 hours.

Table A.12—Estimated Annualized Burden Hours and Costs
Type of respondent | Form name/form number | Number of respondents | Number of responses per respondent | Avg. burden per response (in hours) | Total annual burden (in hours) | Avg. hourly wage rate | Annual No. of responses | Total annual respondent cost
State, Local or Tribal Government | HSGP Investment Justification, FEMA Form 089-1 | 56 | 1 | 1482.5 | 83,020 | $32.20 | 56 | $2,673,244.00
State, Local or Tribal Government | Submission of written letter to DHS requesting tribal staff participation for overtime costs and fusion centers | 4 | 1 | 2 | 8 | 32.20 | 4 | 257.60
State, Local or Tribal Government | Documentation from SAA on how operational overtime UASI funds held by State would support urban area | 10 | 2 | 4 | 80 | 32.20 | 20 | 2,576.00
State, Local or Tribal Government | Multi-year Training & Exercise Plan | 56 | 1 | 42 | 2,352 | 32.20 | 56 | 75,734.40
State, Local or Tribal Government | Urban Area Working Group Structure, including Points of Contact | 62 | 2 | 1354 | 167,896 | 37.80 | 124 | 6,346,468.80
State, Local or Tribal Government | UASI governance charter | 33 | 2 | 250 | 16,500 | 37.80 | 66 | 623,700.00
State, Local or Tribal Government | UASI strategy | 33 | 2 | 500 | 33,000 | 37.80 | 66 | 1,247,400.00
State, Local or Tribal Government | UAWG spending consensus | 33 | 2 | 80 | 5,280 | 37.80 | 66 | 199,584.00
Total HSGP |  | 287 |  |  | 308,136 |  | 458 | 11,168,964.00

Estimated Cost: There is no annual reporting recordkeeping cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-27559 Filed 11-16-09; 8:45 am]

BILLING CODE 9111-78-P